DEPARTMENT OF JUSTICE

Antitrust Division

Notice Pursuant to the National Cooperative Research and Production Act of 1993—Illuminating Engineering Society of North America

Notice is hereby given that, on September 7, 2004, pursuant to section 6(a) of the National Cooperative Research and Production Act of 1993, 15 U.S.C. 4301 et seq. (“the Act”), Illuminating Engineering Society of North America (“IESNA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Illuminating Engineering Society of North America, New York, NY. The nature and scope of IESNA's standards development activities are: The study of subjects relating to the science and art of illumination and the publication of reports and standards thereon for the improvement of the lighted environment.

Dorothy B. Fountain,
Deputy Director of Operations, Antitrust Division.

[FR Doc. 04-25845 Filed 11-19-04; 8:45 am]

BILLING CODE 4410-11-M